DEPARTMENT OF HOMELAND SECURITY

Coast Guard

33 CFR Part 117

[CGD05-04-118]

RIN 1625-AA09

Drawbridge Operation Regulations; Chincoteague Channel, VA

AGENCY: Coast Guard, DHS.

ACTION: Notice of temporary deviation from regulations and request for comments.

SUMMARY: The Commander, Fifth Coast Guard District, has issued a temporary deviation from the drawbridge operation regulations to test an alternate drawbridge operation regulation for the Route 175 Bridge across Chincoteague Channel, mile 3.5, at Chincoteague, Virginia. Under this temporary 90-day deviation, the draw of the bridge will open every two hours on the even hour from 6 a.m. to Midnight; except from 7 a.m. to 5 p.m., on the last consecutive Wednesday and Thursday in July, the draw need not be opened. At all other times, the draw need not open.

The purpose of this temporary deviation is to test an alternate drawbridge operation schedule for 90 days and solicit comments from the public.

DATES: This deviation is effective from July 2, 2004 through September 29, 2004. Comments must reach the Coast Guard on or before 15 October 2004.

ADDRESSES: You may mail comments and related material to Commander (obr), Fifth Coast Guard District, Federal Building, 4th Floor, 431 Crawford Street, Portsmouth, Virginia 23704-5004, or they may be hand delivered to the same address between 8 a.m. and 4 p.m., Monday through Friday, except Federal Holidays. The Commander (obr), Fifth Coast Guard District maintains the public docket for this test deviation. Comments and material received from the public, as well as documents indicated in this preamble as being available in the docket, will become part of this docket and will be available for inspection or copying at the above address.

Request for Comments

We encourage you to participate in this test schedule by submitting comments and related material. If you do so, please include your name and address, identify the docket number for this test deviation CGD05-04-118, indicate the specific section of this document to which each comment applies, and give the reason for each comment. Please submit all comments and related material in an unbound format, no larger than 8½ by 11 inches, suitable for copying. If you would like to know they reached us, please enclose a stamped, self-addressed postcard or envelope. We will consider all comments and material received during the comment period.

FOR FURTHER INFORMATION CONTACT: Gary S. Heyer, Bridge Management Specialist, Fifth Coast Guard District, at (757) 398-6629.

SUPPLEMENTARY INFORMATION: Effective on June 16, 2004, the bridge owner, the Virginia Department of Transportation (VDOT), was officially permitted to operate the Route 175 Bridge across Chincoteague Channel with new regulations. The new operating regulations listed at 33 CFR § 117.1005 allows the draw of the bridge to remain in the closed position from 7 a.m. to 5 p.m. on the last consecutive Wednesday and Thursday in July of every year, to facilitate public safety during the Annual Pony Swim.

On behalf of the Chincoteague Town Council (the Town Council), residents and business owners in the area, VDOT has requested a temporary deviation from the drawbridge regulations to test for a period of 90 days an alternate drawbridge operation schedule in an effort to balance the needs of vessel and vehicular traffic transiting in and around this seaside resort area. The new proposal will test new regulations that will require the bridge to open on two-hour intervals on the even hour from 6 a.m. to Midnight; except from 7 a.m. to 5 p.m., on the last consecutive Wednesday and Thursday in July, the draw need not be opened. At all other times, the draw need not open.

The Town Council has recommended this test regulation to reduce vehicular traffic congestion, to increase public safety on this small island as a result of the reduced number of drawbridge openings, and to extend the structural and operational integrity of the movable span.

Under this 90-day temporary deviation, effective from July 2, 2004 through September 29, 2004, the Route 175 Bridge across Chincoteague Channel shall open every two hours on the even hour from 6 a.m. to Midnight; except from 7 a.m. to 5 p.m., on the last consecutive Wednesday and Thursday in July, the draw need not be opened. At all other times, the draw need not open.

This deviation from the operating regulations is authorized under 33 CFR § 117.43.

Dated: June 21, 2004.
Waverly W. Gregory, Jr.,
Chief, Bridge Administration Branch, Fifth Coast Guard District.

[FR Doc. 04-14628 Filed 6-25-04; 8:45 am]

BILLING CODE 4910-15-P